DEPARTMENT OF HEALTH AND HUMAN SERVICES

National Institutes of Health

National Institute of Mental Health; Notice of Closed Meetings

Pursuant to section 10(d) of the Federal Advisory Committee Act, as amended (5 U.S.C. Appendix 2), notice is hereby given of the following meetings.

The meetings will be closed to the public in accordance with the provisions set forth in sections 552b(c)(4) and 522b(c)(6), Title 5 U.S.C., as amended. The grant applications and the discussions could disclose confidential trade secrets or commercial property such as patentable material, and personal information concerning individuals associated with the grant applications, the disclosure of which would constitute a clearly unwarranted invasion of personal privacy.

Name of Committee: National Institute of Mental Health Special Emphasis Panel; IP-RISP Applications.

Date: July 16, 2004.

Time: 8 a.m. to 4:30 p.m.

Agenda: To review and evaluate grant applications.

Place: Holiday Inn Select Bethesda, 8120 Wisconsin Ave, Bethesda, MD 20814.

Contact Person: Martha Ann Carey, PhD, RN, Scientific Review Administrator, Division of Extramural Activities, National Institute of Mental Health, NIH, Neuroscience Center, 6001 Executive Blvd., Room 6151, MSC 9608, Bethesda, MD 20892-9608, 301-443-1606, Mcarey@mail.nih.gov.

Name of Committee: National Institute of Mental Health Special Emphasis Panel; Career Development and Dissertations Award.

Date: July 20, 2004.

Time: 9 a.m. to 3 p.m.

Agenda: To review and evaluate grant applications.

Place: Holiday Inn Select Bethesda, 8120 Wisconsin Ave, Bethesda, MD 20814.

Contact Person: Martha Ann Carey, PhD, RN, Scientific Review Administrator, Division of Extramural Activities, National Institute of Mental Health, NIH, Neuroscience Center, 6001 Executive Blvd., Room 6151, MSC 9608, Bethesda, MD 20892-9608, 301-443-1606, Mcarey@mail.nih.gov.

Name of Committee: National Institute of Mental Health Special Emphasis Panel; Interdisciplinary Health Research Training: Behavior, Environment & Biology (Roadmap Initiative).

Date: July 22, 2004.

Time: 8:30 a.m. to 5 p.m.

Agenda: To review and evaluate grant applications.

Place: Holiday Inn Select Bethesda, 8120 Wisconsin Ave, Bethesda, MD 20814.

Contact Person: Deborah H. Olster, PhD, RN, Scientific Review Administrator, Senior Advisory, Office of Behavioral and Social Sciences Research, NIH, Building 1, Room 256, One Center Drive, Bethesda, MD 20892-0183, 301-451-4286, olsterd@od.nih.gov.

Name of Committee: National Institute of Mental Health Special Emphasis Panel; Services Conflicts.

Date: July 26, 2004.

Time: 9 a.m. to 2 p.m.

Agenda: To review and evaluate grant applications.

Place: National Institutes of Health, Neuroscience Center, 6001 Executive Boulevard, Rockville, MD 20852, (Telephone Conference Call).

Contact Person: Aileen Schulte, PhD, Scientific Review Administrator, Division of Extramural Activities, National Institute of Mental Health, NIH, Neuroscience Center, 6601 Executive Blvd, Room 6140, MSC 9608, Bethesda, MD 20892-9608, 301-443-1226, aschulte@mail.nih.gov.

Name of Committee: National Institute of Mental Health Special Emphasis Panel; Mental Health Research.

Date: August 2, 2004.

Time: 10 a.m. to 11:30 p.m.

Agenda: To review and evaluate grant applications.

Place: National Institutes of Health, Neuroscience Center, 6001 Executive Boulevard, Rockville, MD 20852 (Telephone Conference Call).

Contact Person: Benjamin Xu, PhD, Scientific Review Administrator, Division of Extramural Activities, National Institute of Mental Health, NIH, Neuroscience Center, 6601 Executive Blvd, Room 6143, MSC 9608, Bethesda, MD 20892-9608, 301-443-1178, benxu1@mail.nih.gov.

Name of Committee: National Institute of Mental Health Special Emphasis Panel; Building Translational Research.

Date: August 4, 2004.

Time: 12 p.m. to 2 p.m.

Agenda: To review and evaluate grant applications.

Place: National Institutes of Health, Neuroscience Center, 6001 Executive Boulevard, Rockville, MD 20852 (Telephone Conference Call).

Contact Person: Benjamin Xu, PhD, Scientific Review Administrator, Division of Extramural Activities, National Institute of Mental Health, NIH, Neuroscience Center, 6601 Executive Boulevard, Room 6143, MSC 9608, Bethesda, MD 20892-9608, 301-443-1178, benxu1@mail.nih.gov.

(Catalogue of Federal Domestic Assistance Program Nos. 93.242, Mental Health Research Grants; 93.281, Scientist Development Award, Scientist Development Award for Clinicians, and Research Scientist Award; 93.282, Mental Health National Research Service Awards for Research, Training, National Institutes of Health, HHS)

Dated: June 17, 2004.
Anna P. Snouffer,
Acting Director, Office of Federal Advisory Committee Policy.

[FR Doc. 04-14153 Filed 6-22-04; 8:45 am]

BILLING CODE 4140-01-M